DEPARTMENT OF TRANSPORTATION

Federal Aviation Administration

14 CFR Part 39

[Docket No. FAA-2016-9392; Product Identifier 2016-NM-003-AD; Amendment 39-19499; AD 2018-23-12]

RIN 2120-AA64

Airworthiness Directives; Zodiac Aero Evacuation Systems (Also Known as Air Cruisers Company) Airplanes

AGENCY: Federal Aviation Administration (FAA), DOT.

ACTION: Final rule; correction.

SUMMARY: The FAA is correcting an airworthiness directive (AD) that published in the Federal Register. That AD applies to Zodiac Aero Evacuation Systems (also known as Air Cruisers Company) fusible plugs installed on emergency evacuation equipment for various transport category airplanes. As published, the email address for requesting service information specified in the preamble and regulatory text is incorrect. This document corrects that error. In all other respects, the original document remains the same.

DATES: This correction is effective December 28, 2018.

The Director of the Federal Register approved the incorporation by reference of certain publications listed in this AD as of December 28, 2018 (83 FR 59290, November 23, 2018).

ADDRESSES: For service information identified in this final rule, contact Air Cruisers, 1747 State Route 34, Wall Township, NJ 07727-3935; phone 732-681-3527; email ZAESTechPubs@zodiacaerospace.com. You may view this referenced service information at the FAA, Transport Standards Branch, 2200 South 216th St., Des Moines, WA. For information on the availability of this material at the FAA, call 206-231-3195. It is also available on the internet at http://www.regulations.gov by searching for and locating Docket No. FAA-2016-9392.

Examining the AD Docket

You may examine the AD docket on the internet at http://www.regulations.gov by searching for and locating Docket No. FAA-2016-9392; or in person at Docket Operations between 9 a.m. and 5 p.m., Monday through Friday, except Federal holidays. The AD docket contains this AD, the regulatory evaluation, any comments received, and other information. The address for Docket Operations (phone: 800-647-5527) is, U.S. Department of Transportation, Docket Operations, M-30, West Building Ground Floor, Room W12-140, 1200 New Jersey Avenue SE, Washington, DC 20590.

FOR FURTHER INFORMATION CONTACT: Darren Gassetto, Aerospace Engineer, Mechanical Systems and Admin Services Section, FAA, New York ACO Branch, 1600 Stewart Avenue, Suite 410, Westbury, NY 11590; telephone 516-228-7323; fax 516-794-5531; email 9-avs-nyaco-cos@faa.gov.

SUPPLEMENTARY INFORMATION: As published, AD 2018-23-12, Amendment 39-19499 (83 FR 59290, November 23, 2018) (“AD 2018-23-12”), requires an inspection of the fusible plugs to determine the part number and lot number, and replacement of certain fusible plugs That AD applies to fusible plugs installed on emergency evacuation equipment for various transport category airplanes.

Need for the Correction

As published, the email address for service information specified in the ADDRESSES section of the preamble and paragraph (l)(3) of the regulatory text of AD 2018-23-12 is incorrect. The email address technicalpublications@zodiacaerospace.com was given for requesting service information identified in AD 2018-23-12; the correct email address is ZAESTechPubs@zodiacaerospace.com.

Related Service Information Under 1 CFR Part 51

We reviewed the following Air Cruisers service information. The service information identifies the affected fusible plugs. In addition, it describes procedures for inspecting and replacing affected fusible plugs. These documents are distinct since they apply to different airplane models or configurations.

• Air Cruisers Service Bulletin 737 103-25-50, dated August 27, 2010.

• Air Cruisers Service Bulletin 757 105-25-80, dated August 27, 2010.

• Air Cruisers Service Bulletin 757 105-25-81, dated August 27, 2010.

• Air Cruisers Service Bulletin 767 106-25-10, Rev. No. 1, dated October 15, 2010.

• Air Cruisers Service Bulletin 777 107-25-29, Rev. No. 1, dated July 8, 2011.

• Air Cruisers Service Bulletin A300/A310 001-25-19, dated August 27, 2010.

• Air Cruisers Service Bulletin A300/A310 003-25-33, dated August 27, 2010.

• Air Cruisers Service Bulletin A310 002-25-08, dated August 27, 2010.

• Air Cruisers Service Bulletin A320 004-25-87, Rev. No. 2, dated January 7, 2011.

• Air Cruisers Service Bulletin A321 005-25-21, dated August 27, 2010.

• Air Cruisers Service Bulletin BAe 146 201-25-23, dated December 10, 2010.

• Air Cruisers Service Bulletin F28 352-25-02, dated December 10, 2010.

• Air Cruisers Service Bulletin F100 351-25-07, dated December 10, 2010.

• Air Cruisers Service Bulletin Liferaft 35-25-79, dated August 27, 2010.

• Air Cruisers Service Bulletin MD11 305-25-35, dated August 27, 2010.

• Air Cruisers Service Bulletin MD80/90/717 304-25-45, dated August 27, 2010.

This service information is reasonably available because the interested parties have access to it through their normal course of business or by the means identified in the ADDRESSES section.

Correction of Publication

This document corrects an error and correctly adds the AD as an amendment to 14 CFR 39.13. Although no other part of the preamble or regulatory information has been corrected, we are publishing the entire rule in the Federal Register.

The effective date of this AD remains December 28, 2018.

Since this action only corrects the email address for requesting service information, it has no adverse economic impact and imposes no additional burden on any person. Therefore, we have determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2018-23-12 Zodiac Aero Evacuation Systems (also known as Air Cruisers Company): Amendment 39-19499; Docket No. FAA-2016-9392; Product Identifier 2016-NM-003-AD.

(a) Effective Date

This AD is effective December 28, 2018.

(b) Affected ADs

None.

(c) Applicability

This AD applies to Zodiac Aero Evacuation Systems (also known as Air Cruisers Company) fusible plugs installed on emergency evacuation equipment identified in the service information specified in paragraphs (c)(1) through (c)(16) of this AD. These affected fusible plugs might be installed on the emergency evacuation equipment of the following manufacturers' airplanes: Airbus SAS, The Boeing Company, BAE Systems (Operations) Limited, and Fokker Services B.V.

(1) Air Cruisers Service Bulletin 737 103-25-50, dated August 27, 2010.

(2) Air Cruisers Service Bulletin 757 105-25-80, dated August 27, 2010.

(3) Air Cruisers Service Bulletin 757 105-25-81, dated August 27, 2010.

(4) Air Cruisers Service Bulletin 767 106-25-10, Rev. No. 1, dated October 15, 2010.

(5) Air Cruisers Service Bulletin 777 107-25-29, Rev. No. 1, dated July 8, 2011.

(6) Air Cruisers Service Bulletin A300/A310 001-25-19, dated August 27, 2010.

(7) Air Cruisers Service Bulletin A300/A310 003-25-33, dated August 27, 2010.

(8) Air Cruisers Service Bulletin A310 002-25-08, dated August 27, 2010.

(9) Air Cruisers Service Bulletin A320 004-25-87, Rev. No. 2, dated January 7, 2011.

(10) Air Cruisers Service Bulletin A321 005-25-21, dated August 27, 2010.

(11) Air Cruisers Service Bulletin BAe 146 201-25-23, dated December 10, 2010.

(12) Air Cruisers Service Bulletin F28 352-25-02, dated December 10, 2010.

(13) Air Cruisers Service Bulletin F100 351-25-07, dated December 10, 2010.

(14) Air Cruisers Service Bulletin Liferaft 35-25-79, dated August 27, 2010.

(15) Air Cruisers Service Bulletin MD11 305-25-35, dated August 27, 2010.

(16) Air Cruisers Service Bulletin MD80/90/717 304-25-45, dated August 27, 2010.

(d) Subject

Air Transport Association (ATA) of America Code 25, Equipment/furnishings.

(e) Unsafe Condition

This AD was prompted by reports indicating that affected fusible plugs activated (vented gas) below the rated temperature. We are issuing this AD to address fusible plugs that might activate below the rated temperature and render the evacuation system unusable.

(f) Compliance

Comply with this AD within the compliance times specified, unless already done.

(g) Fusible Plug Identification

Within 42 months after the effective date of this AD, do an inspection to determine if any fusible plug has part number (P/N) B13984-3, stamped with Lot PA-21 or PA-22. A review of the airplane maintenance records is acceptable to make this determination if it can be conclusively determined from that review that a part not having P/N B13984-3, stamped with Lot PA-21 or PA-22, has been installed.

Note 1 to paragraph (g) of this AD: Guidance for performing the inspection specified in paragraph (g) of this AD can be found in applicable service information specified in paragraphs (c)(1) through (c)(16) of this AD and the applicable component maintenance manuals (CMMs) that have incorporated the appropriate Air Cruisers service information.

(h) Replacement of Affected Fusible Plug

If, during the inspection or records review required by paragraph (g) of this AD, it is determined that any fusible plug has part number (P/N) B13984-3, stamped with Lot PA-21 or PA-22: Within 42 months after the effective date of this AD, replace that fusible plug with a serviceable fusible plug P/N B13984-3 that is not stamped with Lot PA-21 or PA-22.

Note 2 to paragraph (h) of this AD: Guidance can be found in the applicable CMM for the replacement. In addition, Air Cruisers Service Information Letter (SIL) 25-246, Rev. No. 1, dated February 21, 2014, provides information regarding affected fusible plugs and guidance on the replacement.

(i) Parts Installation Prohibition

As of the effective date of this AD, no person may install on any airplane any fusible plug having P/N B13984-3, stamped with Lot PA-21 or PA-22.

(j) Alternative Methods of Compliance (AMOCs)

(1) The Manager, New York ACO Branch, FAA, has the authority to approve AMOCs for this AD, if requested using the procedures found in 14 CFR 39.19. In accordance with 14 CFR 39.19, send your request to your principal inspector or local Flight Standards District Office, as appropriate. If sending information directly to the certification office, send it to ATTN: Program Manager, Continuing Operational Safety, FAA, New York ACO Branch, 1600 Stewart Avenue, Suite 410, Westbury, NY 11590; telephone: 516-228-7300; fax: 516-794-5531.

(2) Before using any approved AMOC, notify your appropriate principal inspector, or lacking a principal inspector, the manager of the local flight standards district office/certificate holding district office.

(k) Related Information

(1) For more information about this AD, contact Darren Gassetto, Aerospace Engineer, Mechanical Systems and Admin Services Section, FAA, New York ACO Branch, 1600 Stewart Avenue, Suite 410, Westbury, NY 11590; telephone 516-228-7323; fax 516-794-5531; email 9-avs-nyaco-cos@faa.gov.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 28, 2018 (83 FR 59290, November 23, 2018).

(i) Air Cruisers Service Bulletin 737 103-25-50, dated August 27, 2010.

(ii) Air Cruisers Service Bulletin 757 105-25-80, dated August 27, 2010.

(iii) Air Cruisers Service Bulletin 757 105-25-81, dated August 27, 2010.

(iv) Air Cruisers Service Bulletin 767 106-25-10, Rev. No. 1, dated October 15, 2010.

(v) Air Cruisers Service Bulletin 777 107-25-29, Rev. No. 1, dated July 8, 2011.

(vi) Air Cruisers Service Bulletin A300/A310 001-25-19, dated August 27, 2010.

(vii) Air Cruisers Service Bulletin A300/A310 003-25-33, dated August 27, 2010.

(viii) Air Cruisers Service Bulletin A310 002-25-08, dated August 27, 2010.

(ix) Air Cruisers Service Bulletin A320 004-25-87, Rev. No. 2, dated January 7, 2011.

(x) Air Cruisers Service Bulletin A321 005-25-21, dated August 27, 2010.

(xi) Air Cruisers Service Bulletin BAe 146 201-25-23, dated December 10, 2010.

(xii) Air Cruisers Service Bulletin F28 352-25-02, dated December 10, 2010.

(xiii) Air Cruisers Service Bulletin F100 351-25-07, dated December 10, 2010.

(xiv) Air Cruisers Service Bulletin Liferaft 35-25-79, dated August 27, 2010.

(xv) Air Cruisers Service Bulletin MD11 305-25-35, dated August 27, 2010.

(xvi) Air Cruisers Service Bulletin MD80/90/717 304-25-45, dated August 27, 2010.

(4) For service information identified in this AD, contact Air Cruisers, 1747 State Route 34, Wall Township, NJ 07727-3935; phone 732-681-3527; email ZAESTechPubs@zodiacaerospace.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, call 202-741-6030, or go to: http://www.archives.gov/federal-register/cfr/ibr-locations.html.

Issued in Des Moines, Washington, on December 13, 2018.
Michael Kaszycki,
Acting Director, System Oversight Division, Aircraft Certification Service.

[FR Doc. 2018-27881 Filed 12-21-18; 8:45 am]

BILLING CODE 4910-13-P